DEPARTMENT OF TRANSPORTATION

Federal Aviation Administration

14 CFR Part 39

[Docket No. FAA-2005-21836; Directorate Identifier 2005-CE-36-AD]

RIN 2120-AA64

Airworthiness Directives; Przedsiebiorstwo Doswiadczalno—Produkcyjne Szybownictwa “PZL-Bielsko” Model SZD-50-3 “Puchacz” Gliders

AGENCY: Federal Aviation Administration (FAA), DOT.

ACTION: Notice of proposed rulemaking (NPRM).

SUMMARY: The FAA proposes to adopt a new airworthiness directive (AD) for all Przedsiebiorstwo Doswiadczalno-Produkcyjne Szybownictwa “PZL-Bielsko” Model SZD-50-3 “Puchacz” gliders. This proposed AD would require you to perform a visual inspection of the turnbuckle link for cracks or wear and replace if cracks or wear is found. This proposed action would only apply to those gliders where the turnbuckle is directly connected to the pedal. This proposed AD results from mandatory continuing airworthiness information (MCAI) issued by the airworthiness authority for Poland. We are issuing this proposed AD to detect and correct cracks in the turnbuckle link, which could result in failure of the rudder cable. This failure could lead to loss of control of the glider.

DATES: We must receive any comments on this proposed AD by September 29, 2005.

ADDRESSES: Use one of the following to submit comments on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this proposed AD, contact Allstar PZL Glider Sp. z o.o., ul.Ciexzynska 325, 43-300 Bielsko-Biala, Poland; telephone: 43 33 812 50 26; facsimile: 48 33 812 37 39; Web site: http://www.szd.com.pl.

To view the comments to this proposed AD, go to http://dms.dot.gov. This is docket number FAA-2005-21836; Directorate Identifier 2005-CE-36-AD.

FOR FURTHER INFORMATION CONTACT: Gregory Davison, Aerospace Engineer, ACE-112, Small Airplane Directorate, 901 Locust, Room 301, Kansas City, Missouri 64106; telephone: (816) 329-4130; facsimile: (816) 329-4090.

SUPPLEMENTARY INFORMATION:

Comments Invited

How do I comment on this proposed AD? We invite you to submit any written relevant data, views, or arguments regarding this proposal. Send your comments to an address listed under ADDRESSES. Include the docket number, “FAA-2005-21836; Directorate Identifier 2005-CE-36-AD” at the beginning of your comments. We will post all comments we receive, without change, to http://dms.dot.gov, including any personal information you provide. We will also post a report summarizing each substantive verbal contact with FAA personnel concerning this proposed rulemaking. Using the search function of our docket web site, anyone can find and read the comments received into any of our dockets, including the name of the individual who sent the comment (or signed the comment on behalf of an association, business, labor union, etc.). This is docket number FAA-2005-21836; Directorate Identifier 2005-CE-36-AD. You may review the DOT's complete Privacy Act Statement in the Federal Register published on April 11, 2000 (65 FR 19477-78) or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

What events have caused this proposed AD? The Civil Aviation Office, which is the airworthiness authority for Poland, recently notified FAA that an unsafe condition may exist on all Przedsiebiorstwo Doswiadczalno—Produkcyjne Szybownictwa “PZL-Bielsko” Model SZD-50-3 “Puchacz” gliders. The Civil Aviation Office reports a broken turnbuckle on a glider performing rudder operations in flight. Specifically, material fatigue caused the end of the turnbuckle that connects the rudder cable with rear seat, right-side pedal to break. Occupants, because of glider design, may have stepped on the rudder cable while entering or exiting the glider, putting stress on the turnbuckle link. This may have contributed to the material fatigue.

What is the potential impact if FAA took no action? Cracks or wear in the turnbuckle link could result in failure of the rudder cable. This failure could lead to loss of control of the glider.

Is there service information that applies to this subject? PZL-Bielsko has issued Mandatory Bulletin No. BE-054/SZD-50-3/2003 “Puchacz,” as approved in the Republic of Poland Civil Aviation Office AD No. SP-0012-2004-A, dated February 5, 2004.

What are the provisions of this service information? The service bulletin includes procedures for:

—Visually inspecting the turnbuckle end for excessive wear and cracks; and

—Replacing the turnbuckle end if wear or cracks are found.

What action did the Civil Aviation Office take? The Civil Aviation Office classified this service bulletin as mandatory and issued Polish AD Number SP-0012-2004-A, dated February 5, 2004, to ensure the continued airworthiness of these gliders in Poland.

Did the Civil Aviation Office inform the United States under the bilateral airworthiness agreement? These PZL-Bielsko Model SZD-50-3 “Puchacz” gliders are manufactured in Poland and are type-certificated for operation in the United States under the provisions of section 21.29 of the Federal Aviation Regulations (14 CFR 21.29) and the applicable bilateral airworthiness agreement.

Under this bilateral airworthiness agreement, the Civil Aviation Office has kept us informed of the situation described above.

FAA's Determination and Requirements of This Proposed AD

What has FAA decided? We have examined the Civil Aviation Office's findings, reviewed all available information, and determined that AD action is necessary for products of this type design that are certificated for operation in the United States.

Since the unsafe condition described previously is likely to exist or develop on other PZL-Bielsko Model SZD-50-3 “Puchacz” gliders of the same type design that are registered in the United States, we are proposing AD action to detect and correct cracks in the turnbuckle link that could result in failure of the rudder cable. This failure could lead to loss of control of the glider.

What would this proposed AD require? This proposed AD would require you to incorporate the actions in the previously-referenced service bulletin.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many gliders would this proposed AD impact? We estimate that this proposed AD affects 8 gliders in the U.S. registry.

What would be the cost impact of this proposed AD on owners/operators of the affected gliders? We estimate the following costs to do this proposed inspection:

Labor cost | Total cost per glider | Total cost on U.S. operators
1 workhour × $65 = $65 | $65 | $520

We estimate the following costs to do any necessary replacements that would be required based on the results of this proposed inspection. We have no way of determining the number of gliders that may need this repair/replacement:

Labor cost | Parts cost | Total cost per glider
1 workhour × $65 = $65 | $20 | $85

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD (and other information as included in the Regulatory Evaluation) and placed it in the AD Docket. You may get a copy of this summary by sending a request to us at the address listed under ADDRESSES. Include “AD Docket FAA-2005-21836; Directorate Identifier 2005-CE-36-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Przedsiebiorstwo Doswiadczalno-Produkcyjne Szybownictwa “PZL-Bielsko”: Docket No. FAA-2005-21836; Directorate Identifier 2005-CE-36-AD.

When Is the Last Date I Can Submit Comments on This Proposed AD?

(a) We must receive comments on this proposed airworthiness directive (AD) by September 29, 2005.

What Other ADs Are Affected by This Action?

(b) None.

What Gliders Are Affected by This AD?

(c) This AD affects Model SZD-50-3 “Puchacz” gliders, all serial numbers, that are certificated in any category.

What Is the Unsafe Condition Presented in This AD?

(d) This AD is the result of a turnbuckle link breaking in flight. The actions specified in this AD are intended to detect and correct cracks in the turnbuckle link, which could result in failure of the rudder cable. This failure could lead to loss of control of the glider.

What Must I Do To Address This Problem?

(e) To address this problem, you must do the following on gliders where the turnbuckle is directly connected to the pedal:

Actions | Compliance | Procedures
(1) Visually inspect turnbuckle end for cracks or wear. Use a magnifying glass with 10 times the magnifying power. The magnifying power in this AD takes precedence over the magnifying power stated in PZL-Bielsko Mandatory Bulletin No. BE-054/SZD-50-3/2003 “Puchacz.” Inspection is not required on gliders where additional short cables between the rear seat pedal and turnbuckle have been installed | Initially within 25 hours time-in-service (TIS) after the effective date of this AD, and thereafter at intervals not to exceed 50 hours TIS | Follow PZL-Bielsko Mandatory Bulletin No. BE-054/SZD-50-3/2003 “Puchacz.”
(2) If cracks or wear is found, during any inspection required by this AD, replace turnbuckle end. The turnbuckle must have a steel end and support a maximum load of 6,100 newtons (converts to 1,371 pounds of force), following PZL-Bielsko Mandatory Bulletin No. BE-054/SZD-50-3/2003 “Puchacz” | Prior to further flight after the inspection where cracks or wear is found | Follow the procedures in the maintenance manual.

May I Request an Alternative Method of Compliance?

(f) You may request a different method of compliance or a different compliance time for this Ad by following the procedures in 14 CFR 39.19. Unless FAA authorizes otherwise, send your request to your principal inspector. The principal inspector may add comments and will send your request to the Manager, Standards Office, Small Airplane Directorate, FAA. For information on any already approved alternative methods of compliance, contact Gregory Davison, Aerospace Engineer, ACE-112, Small Airplane Directorate, 901 Locust, Room 301, Kansas City, Missouri 64106; telephone: (816) 329-4130; facsimile: (816) 329-4090.

Is There Other Information That Relates to This Subject?

(g) PZL-Bielsko Mandatory Bulletin No. BE-054/SZD-50-3/2003 “Puchacz,” as approved by the following AD, and the Civil Aviation Office Airworthiness Directive No. SP-0012-2004-A, dated February 5, 2004, also addresses the subject of this AD.

May I Get Copies of the Documents Referenced in This AD?

(h) To get copies of the documents referenced in this AD, contact Allstar PZL Glider Sp. z o.o., ul.Ciexzynska 325, 43-300 Bielsko-Biala, Poland; telephone: 43 33 812 50 26; facsimile: 48 33 812 37 39; Web site: http://www.szd.com.pl. To view the AD docket, go to the Docket Management Facility; U.S. Department of Transportation, 400 Seventh Street, SW., Nassif Building, Room PL-401, Washington, DC, or on the Internet at http://dms.dot.gov. This is docket number FAA-2005-21836; Directorate Identifier 2005-CE-36-AD.

Issued in Kansas City, Missouri, on August 2, 2005.
Kim Smith,
Acting Manager, Small Airplane Directorate, Aircraft Certification Service.

[FR Doc. 05-15803 Filed 8-9-05; 8:45 am]

BILLING CODE 4910-13-P